FEDERAL MINE SAFETY AND HEALTH REVIEW COMMISSION

Sunshine Act Meeting Notice

October 4, 2011.

TIME AND DATE: 10 a.m., Thursday, October 13, 2011.

PLACE: The Richard V. Backley Hearing Room, 9th Floor, 601 New Jersey Avenue, NW., Washington, DC.

STATUS: Open.

MATTERS TO BE CONSIDERED: The Commission will consider and act upon the following in open session: Big Ridge, Inc., Docket Nos. LAKE 2011-116-R, et al., Peabody Midwest Mining, LLC, Docket Nos. LAKE 2011-118-R, et al., and Independence Coal Co., Docket Nos. WEVA 2011-402-R, et al. (Issues include whether the Secretary of Labor may require that mine operators provide certain information and records to her.)

Any person attending this meeting who requires special accessibility features and/or auxiliary aids, such as sign language interpreters, must inform the Commission in advance of those needs. Subject to 29 CFR 2706.150(a)(3) and 2706.160(d).

CONTACT PERSON FOR MORE INFORMATION: Jean Ellen (202) 434-9950/(202) 708-9300 for TDD Relay/1-800-877-8339 for toll free.

Emogene Johnson,
Administrative Assistant.

[FR Doc. 2011-26209 Filed 10-5-11; 4:15 pm]

BILLING CODE 6735-01-P